FEDERAL ELECTION COMMISSION

Sunshine Act Meetings

AGENCY: Federal Election Commission

DATE & TIME: Thursday, January 14, 2016 at 10:00 a.m.

PLACE: 999 E Street NW., Washington, DC (ninth floor).

STATUS: This meeting will be open to the public.

ITEMS TO BE DISCUSSED:

Correction and Approval of Minutes for November 10 and 17, 2015

Remarks by Chairman Matthew S. Petersen

Draft Advisory Opinion 2015-13: Senator Harry Reid

Draft Advisory Opinion 2015-14: Hillary for America

Draft Advisory Opinion 2015-15: WeSupportThat.com

Audit Division Recommendation Memorandum on the Utah State Democratic Committee (USDC) (A13-10)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220

Shawn Woodhead Werth,
Secretary and Clerk of the Commission.

[FR Doc. 2016-00447 Filed 1-7-16; 4:15 pm]

BILLING CODE 6715-01-P